DEPARTMENT OF HEALTH AND HUMAN SERVICES

Administration for Children and Families

[Program Announcement No. ACYF/HS 2001-07A]

Fiscal Year 2000 Discretionary Announcement for Head Start Family Worker Training and Credentialing Initiative; Availability of Funds and Request for Applications

AGENCY: Administration for Children, Youth, and Families, ACF, DHHS.

ACTION: Notice; Correction.

SUMMARY: This document contains a correction to the Notice that was published in the Federal Register on Thursday, May 3, 2001, Part II. On page 22294, first column (Item D), the August 1, 2001 closing date for the submission of applications is incorrect. The correct closing time and date for receipt of applications is 5 p.m. EDT on July 2, 2001.

FOR FURTHER INFORMATION CONTACT: The ACYF Operation Center at 1-800-351-2293 for referral to the appropriate contact person in ACYF for programmatic questions or send an e-mail to hs@icgnet.com

Dated: May 10, 2001.
James A. Harrell,
Acting Commissioner, Administration on Children, Youth and Families.

[FR Doc. 01-12283 Filed 5-15-01; 8:45 am]

BILLING CODE 4184-01-M